DEPARTMENT OF THE TREASURY

Fiscal Service

31 CFR Part 356

[Docket No. Fiscal-BPD-2013-0001]

Sale and Issue of Marketable Book-Entry Treasury Bills, Notes, and Bonds

Correction

In rule document 2013-18178 appearing on pages 46426-46445 in the issue of July 31, 2013, make the following corrections:

Appendix B to Part 356 [Corrected]

1. On page 46437, in the first column, in the third line from the bottom, “a1 = 100 × max(r + s, 0)/360” should read “ai = 100 × max(r + s, 0)/360”.

2. On the same page, in the second column, in the sixth line from the bottom, “a1” should read “ai”.

3. On the same page, in the same column, in the third line from the bottom, “T1” should read “Ti”.

4. On the same page, in the third column, in the seventh line above Table 3, “0.004278267 + 0.00472818” should read “0.004278267 + 0.004472818”.

5. On page 46438, in the first column, in the third line, “Ti-1” should read “Ti − Ti-1”.

6. On the same page, in the same column, in the ninth line, “Ai = 61 × 0.000625077 = 0.038129697” should read “A1 = 61 × 0.000625077 = 0.038129697”.

7. One the same page, in the second column, in the fourth line, “Bi = 1 + (r + m) × (Ti − 1)/360”, should read “Bi = 1 + (r + m) × (Ti − Ti-1)/360”.

8. On page 46441, in Table 6, in the second column, in the first line, “TO − T-1 = 31” should read “T0 − T−1 = 31”.

9. On the same page, in the second column, the tenth line above Table 4, “Ti-1 and T1” should read “Ti-1 and Ti”.

[FR Doc. C1-2013-18178 Filed 8-16-13; 8:45 am]

BILLING CODE 1505-01-D